DEPARTMENT OF ENERGY

Federal Energy Regulatory Commission

[Docket No. IC23-15-000]

Commission Information Collection Activities (FERC-516H) Comment Request; Extension; Correction

AGENCY: Federal Energy Regulatory Commission, DOE.

ACTION: Notice; correction.

SUMMARY: The published notice in the Federal Register of September 28, 2023, concerning request for comments on the currently approved information collection, FERC-516H, (Electric Rate Schedules and Tariff Filings, Pro Forma Open Access Transmission Tariff). The document currently omitted the comment period end date and has the incorrect Docket No. referenced.

FOR FURTHER INFORMATION CONTACT: Ellen Brown may be reached by email at DataClearance@FERC.gov, telephone at (202) 502-8663.

SUPPLEMENTARY INFORMATION:

Correction

In the Federal Register for September 28, 2023, in FR Doc. 2023-21259, on page 66834, correct the Dates and Addresses sections to read:

DATES: Submit comments on or before November 28, 2023 for this 60 day comment period.

ADDRESSES: You may submit your comments (identified by Docket No. IC23-15-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including Courier) Delivery: Deliver to: Federal Energy Regulatory Commission, Office of the Secretary, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

Dated: September 29, 2023.
Debbie-Anne A. Reese,
Deputy Secretary.

[FR Doc. 2023-22046 Filed 10-3-23; 8:45 am]

BILLING CODE 6717-01-P